DEPARTMENT OF HOMELAND SECURITY

U.S. Customs and Border Protection

19 CFR Part 101

[Docket No. USCBP-2012-0006]

Extension of Port Limits of Indianapolis, IN

AGENCY: U.S. Customs and Border Protection, DHS.

ACTION: Notice of proposed rulemaking.

SUMMARY: U.S. Customs and Border Protection (CBP) is proposing to extend the geographical limits of the port of entry of Indianapolis, Indiana. The proposed extension will make the boundaries more easily identifiable to the public and will allow for uniform and continuous service to the extended area of Indianapolis, Indiana. The proposed change is part of CBP's continuing program to use its personnel, facilities, and resources more efficiently, and to provide better service to carriers, importers, and the general public.

DATES: Comments must be received on or before June 25, 2012.

ADDRESSES: Please submit comments, identified by docket number, by one of the following methods:

• Federal eRulemaking Portal: http://www.regulations.gov. Follow the instructions for submitting comments via docket number USCBP-2012-0006.

• Mail: Border Security Regulations Branch, Office of International Trade, U.S. Customs and Border Protection, Mint Annex, 799 9th Street NW., Washington, DC 20229-1179.

Instructions: All submissions received must include the agency name and docket number for this rulemaking. All comments received will be posted without change to http://www.regulations.gov, including any personal information provided.

Docket: For access to the docket to read background documents or comments received, go to http://www.regulations.gov. Comments submitted will be available for public inspection in accordance with the Freedom of Information Act (5 U.S.C. 552) and 19 CFR 103.11(b) on normal business days between the hours of 9 a.m. and 4:30 p.m. at the Border Security Regulations Branch, Office of International Trade, U.S. Customs and Border Protection, 799 9th Street NW., 5th Floor, Washington, DC. Arrangements to inspect submitted comments should be made in advance by calling Mr. Joseph Clark at (202) 325-0118.

FOR FURTHER INFORMATION CONTACT: Roger Kaplan, Office of Field Operations, U.S. Customs and Border Protection, (202) 325-4543, or by email at Roger.Kaplan@dhs.gov.

SUPPLEMENTARY INFORMATION:

I. Public Participation

Interested persons are invited to participate in this rulemaking by submitting written data, views, or arguments on all aspects of the proposed rule. CBP also invites comments that relate to the economic, environmental, or federalism effects that might result from this proposed rule. Comments that will provide the most assistance to CBP will reference a specific portion of the proposed rule, explain the reason for any recommended change, and include data, information, or authority that support such recommended change.

II. Background

As part of its continuing efforts to use CBP's personnel, facilities, and resources more efficiently, and to provide better service to carriers, importers, and the general public, CBP is proposing to extend the limits of the Indianapolis, Indiana, port of entry. CBP ports of entry are locations where CBP officers and employees are assigned to accept entries of merchandise, clear passengers, collect duties, and enforce the various provisions of customs, immigration, agriculture, and related U.S. laws at the border. The term “port of entry” is used in the Code of Federal Regulations (CFR) in title 8 for immigration purposes and in title 19 for customs purposes. For customs purposes, CBP regulations list designated CBP ports of entry and the limits of each port in section 101.3(b)(1) of title 19 (19 CFR 101.3(b)(1)).¹

¹ Ports of entry for immigration purposes are currently listed at 8 CFR 100.4.

Indianapolis was designated as a customs port of entry by the President's message of March 3, 1913, concerning a reorganization of the customs service pursuant to the Act of August 24, 1912 (37 Stat. 434; 19 U.S.C. 1). Although CBP is not aware of any document which specifically sets forth the geographical boundaries of the Indianapolis port of entry, the port limits are generally understood to be the corporate limits of the city of Indianapolis.

In 1970, by act of the Indiana legislature, the city of Indianapolis consolidated with the surrounding county of Marion. However, four municipalities within Marion County remained excluded from the corporate limits of Indianapolis. Additionally, members of the trade community have expressed a need for CBP services in areas west and south of the city limits.

CBP would like to extend the boundaries of the port of entry of Indianapolis, Indiana, to include all the territory within the boundaries of Marion County, Indiana, as well as portions of the neighboring counties of Boone, Hendricks, and Johnson. This update is necessary to clarify the geographic limits of the port. The update will also allow CBP to better serve the public in the greater Indianapolis area, by providing regular service to (1) municipalities within Indianapolis that are not technically within the city limits, and to (2) locations to the immediate west and south of the city. The proposed change in the boundaries of the port of Indianapolis, Indiana, will not result in a change in the service that is provided to the public by the port and will not require a change in the staffing or workload at the port.

III. Proposed Port Limits of Indianapolis, Indiana

The new port limits of Indianapolis, Indiana, are proposed as follows:

In the State of Indiana, all of Marion County; that part of Boone County which is west of Interstate Route 65 and east of State Route 39; that part of Hendricks County which is east of State Route 39; and that part of Johnson County which is east of State Route 37, north of State Route 144, and west of Interstate Route 65.

CBP has included a map of the proposed port limits in the docket as “Attachment: Port of Entry of Indianapolis—Proposed Limits.”

IV. Statutory and Regulatory Reviews

A. Executive Orders 12866 and 13563

DHS does not consider this proposed rule to be a “significant regulatory action” under section 3(f) of Executive Order 12866, Regulatory Planning and Review, as supplemented by Executive Order 13563. The proposed change is intended to expand the geographical boundaries of the Indianapolis, Indiana, port of entry and make the boundaries more easily identifiable to the public. There are no new costs to the public associated with this rule, and the rule does not otherwise implicate the factors set forth in section 3(f) of Executive Order 12866. Accordingly, this rule has not been submitted to the Office of Management and Budget for review.

B. Regulatory Flexibility Act

The Regulatory Flexibility Act (5 U.S.C. 601 et seq.) requires federal agencies to examine the impact a rule would have on small entities. A small entity may be a small business (defined as any independently owned and operated business not dominant in its field that qualifies as a small business per the Small Business Act); a small not-for-profit organization; or a small governmental jurisdiction (locality with fewer than 50,000 people).

This proposed rule merely expands the limits of an existing port of entry and does not impose any new costs on the public. Accordingly, we certify that this rule would not have a significant economic impact on a substantial number of small entities.

C. Signing Authority

The signing authority for this document falls under 19 CFR 0.2(a) because the extension of port limits is not within the bounds of those regulations for which the Secretary of the Treasury has retained sole authority. Accordingly, this notice of proposed rulemaking may be signed by the Secretary of Homeland Security (or her delegate).

V. Authority

This change is proposed under the authority of 5 U.S.C. 301; 6 U.S.C. 203; 19 U.S.C. 2 & note, 66, and 1624.

VI. Proposed Amendment to the Regulations

If the proposed port limits are adopted, CBP will amend the list of CBP ports of entry at 19 CFR 101.3(b)(1) to reflect the new description of the limits of the Indianapolis, Indiana, port of entry.

Dated: April 10, 2012.
Janet Napolitano,
Secretary of Homeland Security.

[FR Doc. 2012-9996 Filed 4-24-12; 8:45 am]

BILLING CODE 9111-14-P